DEPARTMENT OF HEALTH AND HUMAN SERVICES

Health Resources and Services Administration

Advisory Committee; Notice of Meeting

In accordance with section 10(a)(2) of the Federal Advisory Committee Act, (Public Law 92-463), announcement is made of the following National Advisory body scheduled to meet during the month of September 2001.

Name: Advisory Committee on Interdisciplinary, Community-Based Linkages.

Date and Time: September 10, 2001; 9:00 a.m.-6:00 p.m.; September 11, 2001; 9:00 a.m.-5:30 p.m.

Place: The Doubletree Hotel Park Terrace on Embassy Row, 1515 Rhode Island Avenue, NW., Washington, DC 20005.

The meeting is open to the public.

Agenda items will include, but not be limited to: Welcome; plenary discussion of community-based and interdisciplinary education Committee goals for fiscal year (FY) 2002; guidance provided on an ad hoc basis by Federal program staff from the Division of Interdisciplinary, Community-Based Programs (DICP) and the Division of Medicine and Dentistry (DMD), Bureau of Health Professions (BHPr), Health Resources and Services Administration (HRSA).

Meeting content will be based on the Committee's charge under Section 756 of the Public Health Service Act, including but not limited to the planning and scheduling of Committee goals for FY 2002.

Public comment will be permitted before lunch and at the end of the Committee meeting on September 10, 2001. Oral presentations will be limited to five minutes per public speaker. Persons interested in providing an oral presentation should submit a written request, with a copy of their presentation to: Mr. Leo Wermers, Principal Staff Liaison, Division of Interdisciplinary, Community-Based Programs, Bureau of Health Professions, Health Resources and Services Administration, Room 9-105, 5600 Fishers Lane, Rockville, Maryland 20857, Telephone (301) 443-1648.

Requests should contain the name, address, telephone number, and any business or professional affiliation of the person desiring to make an oral presentation. Groups having similar interests are requested to combine their comments and present them through a single representative. The Division of Interdisciplinary, Community-Based Programs will notify each presenter by mail or telephone of their assigned presentation time.

Persons who do not file an advance request for a presentation, but wish to make an oral statement may register to do so at the Doubletree Hotel Park Terrace on Embassy Row, Washington, DC on September 10, 2001. These persons will be allocated time as the Committee meeting agenda permits.

Anyone requiring information regarding the Committee should contact Mr. Wermers, Division of Interdisciplinary, Community-Based Programs, Bureau of Health Professions, Health Resources and Services Administration, Room 9-105, 5600 Fishers Lane, Rockville, Maryland 20857, Telephone (301) 443-1648.

Dated: August 28, 2001.
Jane M. Harrison,
Director, Division of Policy Review and Coordination.

[FR Doc. 01-22013 Filed 8-30-01; 8:45 am]

BILLING CODE 4165-15-P